FEDERAL COMMUNICATIONS COMMISSION

[Report No. 2715 ]

Petitions for Reconsideration of Action in Rulemaking Proceeding

June 8, 2005.

Petitions for Reconsideration have been filed in the Commission's Rulemaking proceeding listed in this Public Notice and published pursuant to 47 CFR 1.429(e). The full text of this document is available for viewing and copying in Room CY-B402, 445 12th Street, SW., Washington, DC or may be purchased from the Commission's copy contractor, Best Copy and Printing, Inc. (BCPI) (1-800-378-3160). Oppositions to these petitions must be filed by July 7, 2005. See Section 1.4(b)(1) of the Commission's rules (47 CFR 1.4(b)(1)). Replies to an opposition must be filed within 10 days after the time for filing oppositions have expired.

Subject: In the Matter of Amendment of Section 73.202(b) Table of Allotments, FM Broadcast Stations (Chillicothe, Dublin, Hillsboro, and Marion, Ohio) (MB Docket No. 02-266).

Number of Petitions Filed: 1.

Marlene H. Dortch,
Secretary.

[FR Doc. 05-11911 Filed 6-21-05; 8:45 am]

BILLING CODE 6712-01-P